DEPARTMENT OF HEALTH AND HUMAN SERVICES

Indian Health Service

RIN 0917-AA16

Reimbursement Rates for Calendar Year 2020

AGENCY: Indian Health Service, HHS.

ACTION: Notice.

SUMMARY: Notice is given that the Principal Deputy Director of the Indian Health Service (IHS), under the authority of the Public Health Service Act, and the Indian Health Care Improvement Act, has approved the following rates for inpatient and outpatient medical care provided by IHS facilities for Calendar Year 2020 for Medicare and Medicaid beneficiaries, beneficiaries of other federal programs, and for recoveries under the Federal Medical Care Recovery Act. The inpatient rates for Medicare Part A are excluded from the table below, as Medicare inpatient payments for IHS hospital facilities are made based on the prospective payment system or reasonable costs when IHS facilities are designated as Medicare Critical Access Hospitals. Since the inpatient per diem rates set forth below do not include all physician services and practitioner services, additional payment shall be available to the extent that those services are provided.

Inpatient Hospital Per Diem Rate (Excludes Physician/Practitioner Services)

Calendar Year 2020

Lower 48 States $3,675

Alaska $3,529

Outpatient Per Visit Rate (Excluding Medicare)

Calendar Year 2020

Lower 48 States $479

Alaska $710

Outpatient Per Visit Rate (Medicare)

Calendar Year 2020

Lower 48 States $427

Alaska $683

Medicare Part B Inpatient Ancillary Per Diem Rate

Calendar Year 2020

Lower 48 States $838

Alaska $1,186

Outpatient Surgery Rate (Medicare)

Established Medicare rates for freestanding Ambulatory Surgery Centers.

Effective Date for Calendar Year 2020 Rates

Consistent with previous annual rate revisions, the Calendar Year 2020 rates will be effective for services provided on/or after January 1, 2020, to the extent consistent with payment authorities, including the applicable Medicaid State plan.

Chris Buchanan,
RADM, Assistant Surgeon General, U.S. Public Health Service, Deputy Director, Indian Health Service.

[FR Doc. 2020-08247 Filed 4-17-20; 8:45 am]

BILLING CODE 4160-16-P